DEPARTMENT OF HEALTH AND HUMAN SERVICES

Office of the Secretary

Federal Financial Participation in State Assistance Expenditures; Federal Matching Shares for Medicaid, the State Children's Health Insurance Program, and Aid to Needy Aged, Blind, or Disabled Persons for October 1, 2017 Through September 30, 2018; Correction

AGENCY: Office of the Secretary (OS), DHHS.

ACTION: Notice; correction.

SUMMARY: This document corrects a technical error that appeared in the notice published in the November 15, 2016 Federal Register entitled “Federal Financial Participation in State Assistance Expenditures; Federal Matching Shares for Medicaid, the State Children's Health Insurance Program, and Aid to Needy Aged, Blind, or Disabled Persons for October 1, 2017 through September 30, 2018.”

FOR FURTHER INFORMATION CONTACT: Thomas Musco or Rose Chu, Office of Health Policy, Office of the Assistant Secretary for Planning and Evaluation, Room 447D—Hubert H. Humphrey Building, 200 Independence Avenue SW., Washington, DC 20201, (202) 690-6870.

SUPPLEMENTARY INFORMATION:

I. Background

In FR Doc. 2016-27424 of November 15, 2016 (81 FR 80078), there was a technical error in the table that appeared in the notice that is identified and corrected in the Correction of Errors section below.

II. Correction of Errors

In FR Doc. 2016-27424 of November 15, 2016 (81 FR 80078), make the following correction:

On page 80080, in Table 1 entitled, Federal Medical Assistance Percentages and Enhanced Federal Medical Assistance Percentages, Effective October 1, 2017-September 30, 2018—Continued”, change the third column entitled, “Enhanced federal medical assistance percentages” for Utah from 78.18 to 79.18.

Dated: November 30, 2016.
Madhura C. Valverde,
Executive Secretary, Department of Health and Human Services.

[FR Doc. 2016-29184 Filed 12-5-16; 8:45 am]

BILLING CODE 4150-05-P